DEPARTMENT OF COMMERCE

National Oceanic and Atmospheric Administration

50 CFR Part 679

RIN 0648-XA975

Fisheries of the Exclusive Economic Zone Off Alaska; Groundfish Fisheries in the Bering Sea and Aleutian Islands Management Area

AGENCY: National Marine Fisheries Service (NMFS), National Oceanic and Atmospheric Administration (NOAA), Commerce.

ACTION: Notice of a public scoping meeting for an environmental impact statement; request for written comments.

SUMMARY: NMFS, in coordination with the North Pacific Fishery Management Council (NPFMC), will hold a public scoping meeting and accept written comments from the public to determine the issues of concern; the appropriate range of management alternatives; and the direct, indirect, and cumulative impacts to be addressed in the Environmental Impact Statement (EIS) for the Steller Sea Lion Protection Measures for the Groundfish Fisheries in the Bering Sea and Aleutian Islands Management Area (BSAI). The EIS is being prepared in accordance with the National Environmental Policy Act of 1969 (NEPA). The proposed action would restrict groundfish fishing in the BSAI to ensure the groundfish fisheries are not likely to result in jeopardy of continued existence or adverse modification or destruction of designated critical habitat (JAM) for the western distinct population segment (DPS) of Steller sea lions. The western DPS of Steller sea lions is listed as endangered under the Endangered Species Act (ESA), and NMFS must ensure that the groundfish fisheries are not likely to result in JAM for this DPS. NMFS intends to work with stakeholders to develop fisheries restrictions that avoid the likelihood of JAM and minimize the potential economic impact on the fishing industry to the extent practicable while meeting the requirements of the ESA. The analysis in the EIS will determine the impacts to the human environment resulting from this proposed action and the alternatives.

DATES: Written comments must be received by October 15, 2012. A scoping meeting will be held on Tuesday, October 2, 2012, from 5:30 to 7:30 p.m., Alaska local time.

ADDRESSES: The scoping meeting will be held in the Dillingham/Katmai room at the Hilton Hotel, 500 West 3rd Street, Anchorage, AK.

You may submit comments on this action, identified by NOAA-NMFS-2012-0013, by any of the following methods:

• Electronic Submission: Submit all electronic public comments via the Federal e-Rulemaking Portal www.regulations.gov. To submit comments via the e-Rulemaking Portal, first click the “submit a comment” icon, then enter NOAA-NMFS-2012-0013 in the keyword search. Locate the document you wish to comment on from the resulting list and click on the “Submit a Comment” icon on that line.

• Mail: Address written comments to Glenn Merrill, Assistant Regional Administrator, Sustainable Fisheries Division, Alaska Region NMFS, Attn: Ellen Sebastian. Mail comments to P.O. Box 21668, Juneau, AK 99802-1668.

• Fax: Address written comments to Glenn Merrill, Assistant Regional Administrator, Sustainable Fisheries Division, Alaska Region NMFS, Attn: Ellen Sebastian. Fax comments to 907-586-7557.

• Hand delivery to the Federal Building: Address written comments to Glenn Merrill, Assistant Regional Administrator, Sustainable Fisheries Division, Alaska Region NMFS, Attn: Ellen Sebastian. Deliver comments to 709 West 9th Street, Room 420A, Juneau, AK.

• Hand delivery during the October 2, 2012 scoping meeting to Melanie Brown, NMFS.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Electronic copies of the 2010 environmental assessment and biological opinion prepared for the Steller sea lion protection measures are available from http://www.regulations.gov or from the NMFS Alaska Region Web page at http://alaskafisheries.noaa.gov/sustainablefisheries/sslpm/.

FOR FURTHER INFORMATION CONTACT: Melanie Brown, (907) 586-7228.

SUPPLEMENTARY INFORMATION: A description of the legal authority, history of the Steller sea lion protection measures, litigation, potential alternatives, and issues for analysis are in the Federal Register notice of intent for the preparation of the EIS (77 FR 22750, April 17, 2012). Detailed descriptions of the current Steller sea lion protection measures and the development of the EIS are available from the NMFS Alaska Region Web page at http://www.alaskafisheries.noaa.gov/sustainablefisheries/sslpm/.

Public Involvement

NMFS is seeking written public comments on the scope of issues that should be addressed in the EIS and alternatives that should be considered in revising the Steller sea lion protection measures. NMFS will accept comments in writing at the address above (see ADDRESSES). Written comments should be as specific as possible to be the most helpful.

The public is invited to attend the scoping meeting on Tuesday, October 2, 2012, in Anchorage, AK, which will be held in coordination with the NPFMC meeting. At the scoping meeting, NMFS will present background on the development of the EIS and scoping issues that have been identified. The public will have the opportunity to ask questions of NMFS staff regarding the EIS and may submit written comments at that time (see ADDRESSES).

Please visit the NMFS Alaska Region Web page at http://www.alaskafisheries.noaa.gov/sustainablefisheries/sslpm/for more information on this EIS, guidance for submitting effective public comments, and to order a draft EIS. NMFS estimates that a draft EIS will be available in May 2013.

Special Accommodations

These meetings are physically accessible to people with disabilities. Requests for sign language interpretation or other auxiliary aids should be directed to Gail Bendixen, NPFMC, 907-271-2809, at least five days prior to the meeting date.

Authority: 16 U.S.C. 1801 et seq.

Dated: August 27, 2012.
Lindsay Fullenkamp,
Acting Deputy Director, Office of Sustainable Fisheries, National Marine Fisheries Service.

[FR Doc. 2012-21477 Filed 8-29-12; 8:45 am]

BILLING CODE 3510-22-P